DEPARTMENT OF THE INTERIOR

Bureau of Land Management

[LLNVB0000.L14400000.EU0000 241A; N-94266;17-08807; MO#4500112576; TAS: 17X]

Notice of Realty Action: Non-Competitive (Direct) Sale of Public Land in Esmeralda County, NV

AGENCY: Bureau of Land Management, Interior.

ACTION: Notice of realty action.

SUMMARY: The Bureau of Land Management (BLM) is proposing a non-competitive (direct) sale of 221.68 acres of public land in Esmeralda County, Nevada, to the Esmeralda County Board of Commissioners. The sale will resolve inadvertent unauthorized occupancy issues within the historic mining town site of Gold Point dating back to the late 1800's. The sale will be subject to the applicable provisions of the Federal Land Policy and Management Act of 1976 (FLPMA). The appraised fair market value (FMV) for the sale parcel is $82,000.

DATES: Interested parties may submit written comments regarding the sale and Environmental Assessment until October 11, 2018. The public land will not be offered for sale prior to October 26, 2018.

ADDRESSES: Mail written comments to the BLM, Tonopah Field Office, Field Manager, 1553 South Main Street, P.O. Box 911, Tonopah, NV 89049.

FOR FURTHER INFORMATION CONTACT: Wendy Seley by email: wseley@blm.gov, or by telephone: 775-482-7805. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The historic Gold Point town site was a gold and silver mining camp known as Lime Point dating back to 1868, and later around 1908, as Hornsilver. The following public lands are involved in the sale:

Mount Diablo Meridian, Nevada

T. 7 S., R. 41½ E.,

Sec. 3, Lot 5, Lot 6, SE¼NW¼, N½NE¼SW¼, SW¼NE¼SW¼, W½SE¼SW¼, SE¼SE¼SW¼, and SW¼SW¼SE¼;

Sec. 10, N½NW¼NW¼NE¼, N½NE¼NE¼NW¼, NW¼NE¼NW¼, and N½NW¼NW¼.

The area described contains 221.68 acres.

Upon publication of this Notice in the Federal Register, the public land will segregate from all forms of appropriation under the public land laws, including the mining laws, and from operation under the mineral leasing and geothermal leasing laws except for the sale provisions of FLPMA. Upon publication of this Notice and until completion of the sale, the BLM will no longer accept new land use applications affecting the identified public lands. The BLM will manage existing land use authorizations, or previously filed applications for land use, in accordance with 43 CFR 2807.15 and 2886.15. The segregation effect will terminate upon issuance of a patent, publication in the Federal Register of a termination of the segregation, or on August 27, 2020, unless extended by the BLM Nevada State Director in accordance with 43 CFR 2711.1-2(d) prior to the termination date.

FLPMA, Section 203(a)(3) and 43 CFR 2710.0-3(a)(2), allows disposal of public land that will serve important public objectives, including expansion of communities and economic development, which cannot be achieved prudently or feasibly on lands other than public lands, and which outweigh other public objectives and values.

In accordance with 43 CFR 2710.0-6(c)(3)(iii) and 43 CFR 2711.3-3(a), a direct sale may be appropriate to resolve inadvertent, unauthorized occupancy of the land or to protect existing equities in the land. The sale, if completed, would protect the existing improvements and resolve inadvertent unauthorized use and occupancy. The parcel is not suitable for management by other Federal agencies and is not required for any other Federal purpose.

The BLM may sell a tract of public land identified for disposal in an approved land use plan and meets the disposal criteria, as identified in FLPMA. The BLM Tonopah Resource Management Plan (RMP), Appendix 14, pages A-46 through A-49; dated October 2, 1997 designates the public land in question as suitable for disposal. The proposed action is consistent with objectives of the RMP to allow disposal of public land for community expansion and private economic development and to increase the potential for economic diversity.

The BLM has prepared Environmental Assessment (EA) DOI-BLM-NV-B020-2017-0017-EA for the proposed sale. The comment period on the EA will end concurrently with the close of the comment period associated with this Notice of Realty Action. The EA, Environmental Site Assessment, Mineral Potential Report, Mineral Evaluation Report, map, and approved appraisal report are available to review at the Tonopah Field Office at the address in the ADDRESSES section.

In order to determine the Fair Market Value (FMV) through appraisal, an appraiser may make certain extraordinary assumptions and hypothetical conditions concerning the attributes and limitations of the land, potential effects of local regulations, and policies on potential future land uses. Through publication of this Notice, the BLM advises that local government may not have endorsed or approved these assumptions.

Esmeralda County Board of Commissioners expressed an interest in purchasing, by direct sale, the surface estate of these lands. As proof of interest, Esmeralda County Board of Commissioners approved Resolution No. 15-R-08, “Resolution in Support of Esmeralda County to Purchase by Direct Sale of the Gold Point Disposal Area with the Bureau of Land Management.” As documented in the resolution, the county understands the sale would be “for the purpose of the county re-conveying to existing owners their holdings giving them a secure title” and that the county's intent is “that our citizens residing in Gold Point be able to live without the threat of being displaced and that its historic nature be preserved.”

The BLM proposes a direct sale because it serves an important local public objective of facilitating Esmeralda County's efforts to resolve long-standing inadvertent unauthorized occupancy issues within the historic mining townsite of Gold Point and to provide for the expansion of the existing townsite.

Common variety mineral materials, such as gravel, sand, and fill, are present on the subject lands. However, there is little or no market for these materials in the local area and the materials are widely present in the region. Therefore, the development or marketability potential for mineral materials on the subject lands is low. The patent, when issued, will contain a mineral reservation to the United States for all minerals. Mineral regulations published in the Federal Register in 2001, state that minimal use “would not include large-scale use of mineral materials, even within the boundaries of the surface estate,” 66 FR 58894 (Nov. 23, 2001). Further explanation is contained in BLM Instruction Memorandum No. 2014-085 (April 23, 2014), available on BLM's website at: https://www.blm.gov/policy/woim-2014-085. An Environmental Site Assessment, completed in February 2017, found that the lands have no recognized environmental conditions.

The public land will not be offered for sale prior to October 26, 2018. The patent, if issued, will be subject to the following terms, conditions, and reservations:

1. The parcel is subject to all valid existing rights;

2. An appropriate indemnification clause protecting the United States from claims arising out of the patentee's use occupancy or occupations on the patented lands;

3. A reservation for ditches or canals constructed by the authority of the United States, Act of August 30, 1890 (43 U.S.C. 945);

4. All mineral deposits in the lands so patented, the right to prospect for, mine, and remove such deposits from the same under applicable law and regulations as established by the Secretary of the Interior are reserved to the United States, together with all necessary access and exit rights.

No representation, warranty, or covenant of any kind, express or implied, is given by the United States as to the title, whether or to what extent the land may be developed, its physical condition, future uses, or any other circumstance or condition. The conveyance of a parcel will not be on a contingency basis. However, to the extent required by law, the parcel is subject to the requirements of Section 120(h) of the CERCLA. The patent will convey the property in its existing condition and, therefore, if the parcel is lacking access from a public road or highway, the buyer will be responsible for establishing legal access.

The BLM will send the purchaser an offer letter with detailed information for full payment of the proposed 221.68-acre parcel. The purchaser will have 30 days from the date of receiving the sale offer to accept the offer and to submit a deposit of 20 percent of the purchase price. The purchaser must remit the remainder of the purchase price within 180 days from the date of the sale offer. Payments must be by certified check, U.S. postal money order, bank draft, or cashier's check, and made payable to the U.S. Department of the Interior—BLM or conduct an electronic funds transfer. The balance is due 2 weeks prior to the 180th day if the purchaser conducts an electronic funds transfer. Failure to meet conditions established for this sale will void the sale and forfeit any payment(s) received.

Before including your address, phone number, email address, or other personal identifying information in your comment, you should be aware that your entire comment—including your personal identifying information—may be made publicly available at any time. While you can ask us in your comment to withhold your personal identifying information from public review, we cannot guarantee that we will be able to do so.

The BLM Nevada State Director or other authorized official of the Department of the Interior will review comments regarding this proposed sale and may sustain, vacate, or modify this realty action in response to such comments. In the absence of any comments, this realty action will become the final determination of the Department of the Interior.

Authority: 43 CFR 2711.1-2

Timothy J. Coward,
Field Manager.

[FR Doc. 2018-18520 Filed 8-24-18; 8:45 am]

BILLING CODE 4310-HC-P